DEPARTMENT OF DEFENSE

Department of the Army

[Docket ID USA-2014-0025]

Privacy Act of 1974; System of Records

AGENCY: Department of the Army, DoD.

ACTION: Notice to alter a System of Records.

SUMMARY: The Department of the Army proposes to alter a system of records notice, A0190-13 OPMG, entitled “Security/Access Badges and Automated Installation Entry System (AIE) Records” in its existing inventory of records systems subject to the Privacy Act of 1974, as amended. This system supports the Department of the Army physical security and access control programs and Information Assurance programs. Records personal data and vehicle information registered with the Department of the Army; provides a record of security/access badges issued; ensures positive identification of personnel authorized access to restricted areas; restricts entry to installations and activities; maintains accountability for issuance and disposition of security/access badges and for producing installation management reports.

DATES: Comments will be accepted on or before August 11, 2014. This proposed action will be effective the day following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Office Web site at http://dpclo.defense.gov/;.

The proposed systems reports, as required by 5 U.S.C. 552a(r) of the Privacy Act, as amended were submitted on June 12, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: July 8, 2014.
Aaron Siegel,
Alternate OSD Federal Register Liaison Officer, Department of Defense.

A0190-13 OPMG

System name:

Security/Access Badges and Automated Installation Entry System (AIE) Records (October 1, 2008, 73 FR 57074)

Changes:

* * * * *

Categories of records in the system:

Delete entry and replace with “Individual's application for security/access badge on appropriate Department of Defense and Army forms; individual's special credentials, allied papers, registers, logs reflecting sequential numbering of security/access badges may also contain other relevant documentation. Name, current address, phone number, grade, Social Security Number (SSN), DoD ID Number, status, date and place of birth, weight, height, eye color, hair color, gender, passport number, country of citizenship, geographic and electronic home and work addresses and telephone numbers, marital status, fingerprints, photographs, and identification card issue and expiration dates.

The system also includes vehicle information such as manufacturer, model year, color and vehicle type, vehicle identification number, license plate state and number, decal number, current registration, automobile insurance data, and driver's license data.”

* * * * *

Retrievability:

Delete entry and replace with “By individual's name, SSN, DoD ID Number and/or security/access badge number.”

Safeguards:

Delete entry and replace with “Data maintained in secure buildings accessed only by personnel authorized access. Computerized information protected by alarms, encrypted data-at-rest/data-in-transit and established access control procedures.”

* * * * *

System manager(s) and address:

Delete entry and replace with “AIE System Program—Joint Program Manager Guardian (JPMG)/Joint Product Manager, Force Protection Systems (JPdM-FPS), Attn: SFAE-CBD-GN-F, 5900 Putman Road, Suite 1, Fort Belvoir, Virginia 22060-5420.

Security Badges—Commander, U.S. Total Army Personnel Command, 200 Stovall Street, Alexandria, VA 22332-0400.”

Notification procedure:

Delete entry and replace with “Individuals seeking to determine whether information about themselves is contained in this system should address written inquiries to the issuing office where the individual obtained the identification card or to the system manager.

Individual should provide full name, number of security/access badge, current address, phone number and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to records about themselves contained in this record system should address written inquiries to the issuing officer at the appropriate installation.

Individual should provide full name, number of security/access badge, current address, phone number and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

Record source categories:

Delete entry and replace with “From the individual, Defense Manpower Data Center's (DMDC) Interoperability Layer Services (IoLS) and Defense Enrollment Eligibility Reporting System (DEERS), Army records and reports.”

* * * * *

[FR Doc. 2014-16205 Filed 7-10-14; 8:45 am]

BILLING CODE 5001-06-P